DEPARTMENT OF TRANSPORTATION

Federal Aviation Administration

Notice of Intent to Rule on Request to Release Airport Property at the Laredo International Airport, Laredo, Texas

AGENCY: Federal Aviation Administration (FAA), DOT.

ACTION: Notice of Request to Release Airport Property.

SUMMARY: The FAA proposes to rule and invite public comment on the release of land at Laredo International Airport under the provisions of Section 125 of the Wendell H. Ford Aviation Investment Reform Act for the 21st Century (AIR 21).

DATES: Comments must be received on or before September 11, 2000.

ADDRESSES: Comments on this application may be mailed or delivered to the FAA at the following address: Mr. Otis T. Welch, Manager, Federal Aviation Administration, Southwest Region, Airports Division, Texas Airports Development Office, ASW-650, Fort Worth, Texas 76193-0650.

In addition, one copy of any comments submitted to the FAA must be mailed or delivered to Jose Luis Flores, Airport Director, Laredo International Airport, at the following address: Laredo International Airport, 5210 Bob Bullock Road, Laredo, Texas 78041.

FOR FURTHER INFORMATION CONTACT: Mr. Guillermo Y. Villalobos, Program Manager, Federal Aviation Administration, Texas Airports Development Office, ASW-650, 2601 Meacham Boulevard, Fort Worth, Texas 76193-0650.

The request to release property may be reviewed in person at this same location.

SUPPLEMENTARY INFORMATION: The FAA invites public comment on the request to release property at the Laredo International under the provisions of the AIR 21.

On June 2, 2000, the FAA determined that the request to release property at Laredo International Airport submitted by the city met the procedural requirements of the Federal Aviation Regulations, Part 155. The FAA may approve the request, in whole or in part, no later than August 22, 2000.

The following is a brief overview of the request:

The Laredo International Airport requests the release of 12.003 acres of non-aeronautical airport property. The release of property will allow for development that would attract the University of Texas Health Science Center for the construction of a campus.

The sale is estimated to provide $2,007,000 to allow:

1. The purchase of an Aircraft Rescue and Firefighting Vehicle;

2. Land acquisition;

3. The funding of an Environmental Assessment for a future runway extension project;

4. The purchase of an airport sweeper;

5. The relocation of runway distance-to-go signs for Runway 17L/35R;

6. The demolition of two airport buildings;

7. The funding of Taxiway I; and,

8. The construction of a perimeter fence.

Any person may inspect the request in person at the FAA office listed above under FOR FURTHER INFORMATION CONTACT.

In addition, any person may, upon request, inspect the application, notice and other documents germane to the application in person at the Laredo International Airport.

Issued in Forth Worth, Texas on June 22, 2000.
William J. Flanagan,
Acting Manager, Airports Division.

[FR Doc. 00-19844 Filed 8-14-00; 8:45 am]

BILLING CODE 4910-13-M